DEPARTMENT OF COMMERCE

International Trade Administration

[A-533-840]

Certain Frozen Warmwater Shrimp From India: Notice of Final Results of Antidumping Duty Changed Circumstances Review

AGENCY: Enforcement and Compliance, International Trade Administration, Department of Commerce.

SUMMARY: On August 12, 2019, the Department of Commerce (Commerce) published the preliminary results of the changed circumstances review of the antidumping duty order on certain frozen warmwater shrimp (shrimp) from India. For these final results, Commerce continues to find that Sunrise Seafoods India Private Limited (SSIPL) is the successor-in-interest to Sunrise Aqua Food Exports (SAFE).

DATES: Applicable September 27, 2019.

FOR FURTHER INFORMATION CONTACT: Brittany Bauer, AD/CVD Operations, Office II, Enforcement and Compliance, International Trade Administration, U.S. Department of Commerce, 1401 Constitution Avenue NW, Washington, DC 20230; telephone: (202) 482-3860.

SUPPLEMENTARY INFORMATION:

Background

On October 31, 2018, SSIPL requested that Commerce conduct an expedited changed circumstances review, pursuant to section 751(b)(1) of the Tariff Act of 1930, as amended (the Act), 19 CFR 351.216(b), and 19 CFR 351.221(c)(3), to confirm that SSIPL is the successor-in-interest to SAFE for purposes of determining antidumping duty cash deposits and liabilities. In its submission, SSIPL explained that SAFE undertook a business reorganization and transferred its shrimp business to SSIPL.¹

¹ See SSIPL's Letter, “Frozen Warmwater Shrimp from India: Request to Initiate a Successor-in-Interest Changed Circumstances Review,” dated October 31, 2019.

On December 26, 2018, Commerce initiated this changed circumstances review, and on August 12, 2019, Commerce published the notice of preliminary results, determining that SSIPL is the successor-in-interest to SAFE.² In the Preliminary Results, we provided all interested parties with an opportunity to comment and request a public hearing regarding our preliminary finding that SSIPL is the successor-in-interest to SAFE.³ We received no comments or requests for a public hearing from interested parties within the time period set forth in the Preliminary Results.⁴

² See Certain Frozen Warmwater Shrimp from India: Initiation of Antidumping Duty Changed Circumstances Review, 83 FR 66244 (December 26, 2018); see also Certain Frozen Warmwater Shrimp from India: Preliminary Results of Antidumping Duty Changed Circumstances Review, 84 FR 39809 (August 12, 2019) (Preliminary Results).

³ See Preliminary Results, 84 FR at 39810.

⁴ Id.

Scope of the Order

The merchandise subject to the order is certain frozen warmwater shrimp.⁵ The product is currently classified under the following Harmonized Tariff Schedule of the United States (HTSUS) item numbers: 0306.17.00.03, 0306.17.00.06, 0306.17.00.09, 0306.17.00.12, 0306.17.00.15, 0306.17.00.18, 0306.17.00.21, 0306.17.00.24, 0306.17.00.27, 0306.17.00.40, 1605.21.10.30, and 1605.29.10.10. Although the HTSUS numbers are provided for convenience and customs purposes, the written product description remains dispositive.

⁵ For a complete description of the Scope of the Order, see Certain Frozen Warmwater Shrimp from India: Final Results of Antidumping Duty Administrative Review; 2016-2017, 83 FR 32835 (July 16, 2018) (12th AR of Shrimp from India), and accompanying Issues and Decision Memorandum at “Scope of the Order” section.

Final Results of Changed Circumstances Review

For the reasons stated in the Preliminary Results, and because we received no comments from interested parties to the contrary, Commerce continues to find that SSIPL is the successor-in-interest to SAFE. As a result of this determination and consistent with established practice, we find that SSIPL should receive the cash deposit rate previously assigned to SAFE. Consequently, Commerce will instruct U.S. Customs and Border Protection to suspend liquidation of all shipments of subject merchandise produced or exported by SSIPL and entered, or withdrawn from warehouse, for consumption on or after the publication date of this notice in the Federal Register at 1.35 percent, which is the current antidumping duty cash-deposit rate for SAFE.⁶ This cash deposit requirement shall remain in effect until further notice.

⁶ See 12th AR of Shrimp from India, 83 FR at 32836.

Notification to Interested Parties

We are issuing this determination and publishing these final results and notice in accordance with sections 751(b)(1) and 777(i)(1) and (2) of the Act and 19 CFR 351.216(e), 351.221(b), and 351.221(c)(3).

Dated: September 23, 2019.
Jeffrey I. Kessler,
Assistant Secretary for Enforcement and Compliance.

[FR Doc. 2019-21011 Filed 9-26-19; 8:45 am]

BILLING CODE 3510-DS-P